DEPARTMENT OF ENERGY

Federal Energy Regulatory Commission

Combined Notice of Filings

Take notice that the Commission has received the following Natural Gas Pipeline Rate and Refund Report filings:

Filings Instituting Proceedings

Docket Numbers: RP21-1030-000.

Applicants: Fieldwood Energy LLC, Fieldwood Energy Offshore LLC, QuarterNorth Energy LLC, GOM Shelf LLC.

Description: Joint Petition of Fieldwood Energy LLC et al for Limited Waiver of “shipper-must-have-title” Policy, Request for Expedited Action and Shortened Comment Period.

Filed Date: 8/11/21.

Accession Number: 20210811-5078.

Comment Date: 5 p.m. ET 8/18/21.

Docket Numbers: RP21-1031-000.

Applicants: Northern Natural Gas Company.

Description: § 4(d) Rate Filing: 202108012 Carlton Flow Obligation to be effective 11/1/2021.

Filed Date: 8/12/21.

Accession Number: 20210812-5043.

Comment Date: 5 p.m. ET 8/24/21.

Docket Numbers: RP21-1032-000.

Applicants: DBM Pipeline, LLC.

Description: § 4(d) Rate Filing: Negotiated Rate Filing to be effective 8/1/2021.

Filed Date: 8/12/21.

Accession Number: 20210812-5084.

Comment Date: 5 p.m. ET 8/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2021.
Debbie-Anne A. Reese,
Deputy Secretary.

[FR Doc. 2021-17707 Filed 8-17-21; 8:45 am]

BILLING CODE 6717-01-P